NATIONAL AERONAUTICS AND SPACE ADMINISTRATION

[Notice 04-011]

Government-Owned Inventions, Available for Licensing

AGENCY: National Aeronautics and Space Administration.

ACTION: Notice of availability of inventions for licensing.

SUMMARY: The inventions listed below are assigned to the National Aeronautics and Space Administration, have been filed in the United States Patent and Trademark office, and are available for licensing.

DATES: January 29, 2004.

FOR FURTHER INFORMATION CONTACT: James McGroary, Patent Counsel, Marshall Space Flight Center, Mail Code LS01, Huntsville, AL 35812; telephone (256) 544-0013; fax (256) 544-0258.

NASA Case No. MFS-31490-1: Electrodynamic Tether;

NASA Case No. MFS-31814-1: Method for Producing Metal Lined, Composite Overwrapped Pressure Vessels;

NASA Case No. MFS-31815-1: Distributed Solid State Programmable Thermostat/Power Controller;

NASA Case No. MFS-31841-1: Material for Producing Composite Overwrapped Pressure Vessels That Are Impact Resistant and Suitable for Low Temperature Use;

NASA Case No. MFS-31944-1: Variable Distance Angular Symbology Reader;

NASA Case No. MFS-31952-1: Balanced Orifice Plate.

Dated: January 21, 2004.
Robert M. Stephens,
Deputy General Counsel.

[FR Doc. 04-1846 Filed 1-28-04; 8:45 am]

BILLING CODE 7510-01-P